DEPARTMENT OF COMMERCE

International Trade Administration

Initiation of Antidumping and Countervailing Duty Administrative Reviews, Request for Revocation in Part, and Deferral of Administrative Review

AGENCY: Import Administration, International Trade Administration, Department of Commerce.

SUMMARY: The Department of Commerce (the Department) has received requests to conduct administrative reviews of various antidumping and countervailing duty orders and findings with February anniversary dates. In accordance with the Department's regulations, we are initiating those administrative reviews. The Department received a request to revoke one antidumping duty order in part. The Department also received requests to defer the initiation of an administrative review for one antidumping duty order.

EFFECTIVE DATE: March 31, 2008.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b)(2004), for administrative reviews of various antidumping and countervailing duty orders and findings with February anniversary dates. With respect to the antidumping duty orders on Frozen Warmwater Shrimp from Brazil, Ecuador, India, Thailand, the People's Republic of China and the Socialist Republic of Vietnam, the initiation of the antidumping duty administrative review for these cases will be published in a separate initiation notice. The Department received a timely request to revoke in part the antidumping duty order on Stainless Steel Flanges from India with respect to one exporter. The Department also received requests in accordance with 19 CFR 351.213(c) to defer for one year the initiation of the February 1, 2007 through January 31, 2008, antidumping duty administrative review and to continue the deferral of the February 1, 2005 through January 31, 2006, antidumping duty administrative review of the antidumping duty order on Low Enriched Uranium from France.¹

¹ On April 5, 2006, in response to requests, the Department deferred the initiation of the 2005/2006 antidumping duty administrative review on imports of low enriched uranium from France. See Initiation of Antidumping and Countervailing Duty Administrative Reviews and Deferral of Administrative Reviews, 71 FR 17077 (April 5, 2006). This review is being deferred for another year based on submissions filed by all parties on February 22, 2008 and February 25, 2008.

Initiation of Reviews

In accordance with section 19 CFR 351.221(c)(1)(i), we are initiating administrative reviews of the following antidumping and countervailing duty orders and findings. We intend to issue the final results of these reviews not later than February 28, 2009. Also, in accordance with 19 CFR 351.213(c) we are deferring for one year the initiation of the February 1, 2007 through January 31, 2008 administrative review of the antidumping duty order on Low Enriched Uranium from France (A-427-818) with respect to one producer/exporter.

| Period to be reviewed
Antidumping Duty Proceedings
Brazil:
Stainless Steel Bar, A-351-825 | 2/1/07-1/31/08
Villares Metals S.A.
Frozen Warmwater Shrimp,² A-351-838 | 2/1/07-1/31/08
Ecuador: Frozen Warmwater Shrimp,³ A-331-802 | 2/1/07-8/14/07
India: Stainless Steel Bar, A-533-810 | 2/1/07-1/31/08
Ambica Steels Limited
Venus Wire Industries, Pvt. Ltd.
Forged Stainless Steel Flanges, A-533-809 | 2/1/07-1/31/08
Echjay Forgings Pvt. Ltd.
Hotmetal Forge (India) Pvt. Ltd.
Pradeep Metals Ltd.
Frozen Warmwater Shrimp,⁴ A-533-840 | 2/1/07-1/31/08
Republic of Korea: Certain Cut-to-Length Carbon-Quality Steel Plate, A-580-836 | 2/1/07-1/31/08
Dongkuk Steel Mill Co., Ltd.
Thailand: Frozen Warmwater Shrimp,⁵ A-549-822 | 2/1/07-1/31/08
The People's Republic of China: Axes/Adzes ⁶ A-570-803 | 2/1/07-1/31/08
Truper Herramientas S.A. de C.V.
Bars/Wedges,* A-570-803 | 2/1/07-1/31/08
Truper Herramientas S.A. de C.V.
Frozen Warmwater Shrimp,⁷ A-570-893 | 2/1/07-1/31/08
Hammers/Sledges,* A-570-803 | 2/1/07-1/31/08
Truper Herramientas S.A. de C.V.
Picks/Mattocks,* A-570-803 | 2/1/07-1/31/08
Truper Herramientas S.A. de C.V.
Certain Preserved Mushrooms,⁸ A-570-851 | 2/1/07-1/31/08
Fujian Yu Xing Fruit and Vegetable Foodstuff Development Co.
Socialist Republic of Vietnam: Frozen Warmwater Shrimp,⁹ A-552-802 | 2/1/07-1/31/08
Countervailing Duty Proceedings
Republic of Korea: Certain Cut-to-Length Carbon-Quality Steel Plate, C-580-837 | 1/1/07-12/31/07
Dongkuk Steel Mill Co., Ltd.
Suspension Agreements
None.
Deferral of Initiation of Adminstrative Review
France: Low Enriched Uranium, A-427-818 | 2/1/07-1/31/08
Eurodif S.A./AREVA NC (formerly COGEMA).
² The initiation of the administrative review for the above referenced case will be published in a separate initiation notice.
³ The initiation of the administrative review for the above referenced case will be published in a separate initiation notice.
⁴ The initiation of the administrative review for the above referenced case will be published in a separate initiation notice.
⁵ The initiation of the administrative review for the above referenced case will be published in a separate initiation notice.
⁶ (*) If the the above-named company does not qualify for a separate rate, all other exporters of Heavy Forged Hand Tools from the People's Republic of China who have not qualified for a separate rate are deemed to be covered by this review as part of the single PRC entity of which the named exporters are a part.
⁷ The initiation of the administrative review for the above referenced case will be published in a separate initiation notice.
⁸ If the above-named company does not qualify for a separate rate, all other exporters of certain preserved mushrooms from the People's Republic of China who have not qualified for a separate rate are deemed to be covered by this review as part of the single PRC entity of which the named exporters are a part.
⁹ The initiation of the administrative review for the above referenced case will be published in a separate initiation notice.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 U.S.C. 1675(a)), and 19 CFR 351.221(c)(1)(i).

Dated: March 26, 2008.
Stephen J. Claeys,
Deputy Assistant Secretary for Import Administration.

[FR Doc. E8-6564 Filed 3-28-08; 8:45 am]

BILLING CODE 3510-DS-P